INTERNATIONAL TRADE COMMISSION

[Investigation No. 731-TA-282 (Third Review)]

Petroleum Wax Candles From China

Determination

On the basis of the record ¹ developed in the subject five-year review, the United States International Trade Commission (Commission) determines, pursuant to section 751(c) of the Tariff Act of 1930 (19 U.S.C. 1675(c)), that revocation of the antidumping duty order on petroleum wax candles from China would be likely to lead to continuation or recurrence of material injury to an industry in the United States within a reasonably foreseeable time.

¹ The record is defined in sec. 207.2(f) of the Commission's Rules of Practice and Procedure (19 CFR 207.2(f)).

Background

The Commission instituted this review on July 1, 2010 (75 FR 38121) and determined on October 4, 2010 that it would conduct an expedited review (75 FR 63200, October 14, 2010).

The Commission transmitted its determination in this review to the Secretary of Commerce on December 16, 2010. The views of the Commission are contained in USITC Publication 4207 (December 2010), entitled Petroleum Wax Candles from China: Investigation No. 731-TA-282 (Third Review).

Issued: December 17, 2010.
By order of the Commission.
Marilyn R. Abbott,
Secretary to the Commission.

[FR Doc. 2010-32212 Filed 12-22-10; 8:45 am]

BILLING CODE 7020-02-P